DEPARTMENT OF THE INTERIOR

Bureau of Land Management

[AK-921-1410-BK-P]

Alaska: Notice of Filing of Plat of Survey

AGENCY: Bureau of Land Management, Interior.

ACTION: Notice of filing of plat of survey.

SUMMARY: The Bureau of Land Management (BLM) Alaska State Office, Anchorage, Alaska, officially filed plats of survey for the following described lands on the date indicated below.

ADDRESSES: This survey has been placed in the open files in the Alaska State Office and is available to the public as a matter of information. All inquiries relating to these lands should be sent to the Alaska State Office, Bureau of Land Management, 222 West Seventh Avenue, #13, Anchorage, Alaska 99513-7599.

FOR FURTHER INFORMATION CONTACT: Daniel L. Johnson, Chief, Branch of Field Surveys, (907) 267-1403.

SUPPLEMENTARY INFORMATION: The plat representing the retracement, dependent resurvey and subdivision of sections 2-7, 9-21, and 27-34, the retracement and dependent resurvey of portions of U.S. Survey Nos. 3729, 3770, 3790, 3799, 4440, 4046, and 4117, the retracement of portions of private Land Survey Nos. 71-55, 74-577, 79-11, 80-2, 80-8, 80-18, 81-10, 81-17, 81-18, 82-9, 82-13, 82-22, 83-40, 84-9, 84-19, 87-6, 93-32, 96-7 and 98-15, an unrecorded private Land Survey dated July 22, 1997, the partition line of U.S. Survey No. 4046, and the retracement and survey of portions of the meanders in Township 8 North, Range 71 West, Seward Meridian Alaska, and the plat representing the retracement, dependent resurvey and subdivision of sections 1-4, 9-17, 20-27, 35 and 36, the retracement and dependent resurvey of portions of U.S. Survey Nos. 3729, 4117 and 4383, the retracement of portions of private Land Survey Nos. 79-11, 81-12, 83-42BS, 95-11, 96-18, 96-20, 96-23, 97-17, 98-3, 98-9, 2000-16 and a 1989 unrecorded plat in sections 14 and 15 in Township 8 North, Range 72 West, Seward Meridian Alaska, and accepted on March 18, 2004 and officially filed July 29, 2004.

This survey was prepared at the request of the BLM, Division of Geomatics and Cadastral Services, and will immediately become part of the basic record for describing lands for all authorized purposes within these townships.

Daniel L. Johnson,
Chief, Branch of Field Surveys.

[FR Doc. 04-20992 Filed 9-16-04; 8:45 am]

BILLING CODE 1410-BK-M